SMALL BUSINESS ADMINISTRATION

Region VI—Houston District Advisory Council; Public Meeting

The U.S. Small Business Administration Region VI, Houston District Advisory Council, located in the geographical area of Houston, Texas, will be hosting a public meeting on Wednesday, September 22, 2004, at 1 p.m. The meeting will be held at the U.S. Small Business Administration, Houston District Office, 8701 South Gessner Drive, Suite 1200, Conference Room, Houston, TX 77074, to discuss such business as may be presented by members of the District Advisory Council, the staff of the U.S. Small Business Administration, and others attending. If you have any questions or concerns regarding this meeting, please write or contact Milton Wilson, Jr., District Director, U.S. Small Business Administration, 8701 South Gessner Drive, Suite 1200, (713) 773-6500 telephone, (713) 773-6550 fax.

Matthew K. Becker,
Committee Management Officer.

[FR Doc. 04-20666 Filed 9-13-04; 8:45 am]

BILLING CODE 8025-01-P